DEPARTMENT OF COMMERCE

International Trade Administration

[A-570-922]

Raw Flexible Magnets from the People's Republic of China: Rescission of New Shipper Review

AGENCY: Import Administration, International Trade Administration, Department of Commerce.

EFFECTIVE DATE: October 5, 2010.

SUMMARY: In response to a request from Jingzhou Meihou Flexible Magnet Company, Ltd. (“Jingzhou Meihou”) the Department of Commerce (the “Department”) published on April 30, 2010, a Federal Register notice announcing the initiation of a new shipper review of the antidumping duty order on raw flexible magnets from the People's Republic of China (“PRC”) covering the period of September 1, 2009, through February 28, 2010. On August 27, 2010, Jingzhou Meihou withdrew its request for a new shipper review. Therefore, we are rescinding this new shipper review.

FOR FURTHER INFORMATION CONTACT: Maisha Cryor, AD/CVD Operations, Office 4, Import Administration, International Trade Administration, U.S. Department of Commerce, 14th Street and Constitution Avenue, NW, Washington, DC 20230; telephone: (202) 482-5831.

SUPPLEMENTARY INFORMATION:

Background

On March 29, 2010, we received a timely request for a new shipper review from Jingzhou Meihou in accordance with 19 CFR 351.214(c) and 351.214(d)(2). On April 30, 2010, the Department found that the request for review with respect to Jingzhou Meihou met all of the regulatory requirements set forth in 19 CFR 351.214(b) and initiated an antidumping duty new shipper review. See Raw Flexible Magnets From the People's Republic of China: Initiation of Antidumping Duty New Shipper Review, 75 FR 22740 (April 30, 2010).

On August 27, 2010, Jingzhou Meihou withdrew its request for a new shipper review. On September 2, 2010, we placed on the record and served to parties a memorandum stating that the Department intended to rescind the above-referenced new shipper review, allowing parties to comment on the intended rescission by no later than September 9, 2010. See Memorandum to the File from Maisha Cryor, Case Analyst, through Robert Bolling, Program Manager, regarding: Withdrawal of Request for NSR from Jingzhou Meihou, dated September 2, 2010. The Department did not receive comments from any party. See Memorandum to the File from Maisha Cryor, Case Analyst, through Robert Bolling, Program Manager, regarding: Comments on Jingzhou Meihou's Withdrawal of Request for NSR, dated September 15, 2010.

Rescission of New Shipper Review

19 CFR 351.214(f)(1) provides that the Department may rescind a new shipper review if the party that requested the review withdraws its request for review within 60 days of the date of publication of the notice of initiation of the requested review. Although Jingzhou Meihou withdrew its request after the 60-day deadline, we find it reasonable to extend the deadline. See 19 CFR 351.302(b). In this instance, no other company would be affected by a rescission, and we have received no objections from any party to Jingzhou Meihou's withdrawal of its request for this new shipper review. Based upon the above, we are rescinding the new shipper review of the antidumping duty order on raw flexible magnets from the PRC with respect to Jingzhou Meihou. See Certain Steel Nails From the People's Republic of China: Rescission of New Shipper Review, 75 FR 38080 (July 1, 2010) (rescinding the new shipper review after the 60-day deadline). As the Department is rescinding this new shipper review, we are not making a determination as to whether Jingzhou Meihou qualifies for a separate rate. Therefore, Jingzhou Meihou will remain part of the PRC entity.

Notifications

We intend to instruct U.S. Customs and Border Protection, 15 days from the date of publication of this notice, to liquidate any entries by Jingzhou Meihou during the period of review at the cash deposit rate in effect at the time of entry.

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective orders (“APO”) of their responsibility concerning the return or destructions of proprietary information disclosed under APO in accordance with 19 CFR 351.305(a). Timely written notification of the return/destruction of APO materials or conversion to judicial protective order is hereby requested. Failure to comply with the regulations and terms of an APO is a violation which is subject to sanction.

We are issuing and publishing this determination and notice in accordance with section 777(i) of the Act and 19 CFR 351.214(f)(3).

Dated: September 28, 2010.
Susan H. Kuhbach,
Acting Deputy Assistant Secretary for Antidumping and Countervailing Duty Operations.

[FR Doc. 2010-24996 Filed 10-4-10; 8:45 am]

BILLING CODE 3510-DS-S